DEPARTMENT OF AGRICULTURE

National Agricultural Statistics Service

Notice of Opportunity To Submit Content Request for the 2012 Census of Agriculture

AGENCY: National Agricultural Statistics Service.

ACTION: Notice and request for stakeholder input.

SUMMARY: The National Agricultural Statistics Service (NASS) is currently accepting stakeholder feedback in the form of content requests for the 2012 Census of Agriculture. This census is required by law under the “Census of Agriculture Act of 1997,” Public Law No. 105-113 (7 U.S.C. 2204g).

DATES: Comments on this notice must be received by August 28, 2009 to be assured of consideration.

ADDRESSES: Requests must address items listed in comments section below. Please submit requests online at http://www.agcensus.usda.gov/2012/ or via mail to: USDA-NASS, Census Content Team, 1400 Independence Ave., SW., Rm. 6436B, MS 2052, Washington, DC 20250.

If you have any questions, send an e-mail to censusdatacontentteam@nass.usda.gov or call 1-800-727-9540.

FOR FURTHER INFORMATION CONTACT: Joseph T. Reilly, Associate Administrator, National Agricultural Statistics Service, U.S. Department of Agriculture, (202) 720-4333, Fax: 202-720-9013, or e-mail: HQ_OA@nass.usda.gov.

SUPPLEMENTARY INFORMATION: The results of the 2007 Census of Agriculture were released on February 4, 2009. For more information, visit http://www.agcensus.usda.gov. The U.S. Department of Agriculture's National Agricultural Statistics is in the process of planning the content of the 2012 Census of Agriculture. We are seeking input on ways to improve the Census of Agriculture. Recommendations or any other ideas concerning the census would be greatly appreciated. The 2007 Census of Agriculture questionnaire may be viewed on-line at: http://www.agcensus.usda.gov/2007questionnaire.

The following justification categories must be addressed when proposing a new line of questioning for the 2012 Census of Agriculture:

1. What data are needed?

2. Why are the data needed?

3. At what geographic level are the data needed? (U.S., State, County, other)

4. Who will use these data?

5. What decisions will be influenced with these data?

6. What surveys have used the proposed question before; what testing has been done on the question; and what is known about its reliability and validity.

7. Draft of the recommended question.

All responses to this notice will become a matter of public record and be summarized and considered by NASS in preparing the 2012 Census of Agriculture questionnaire for OMB approval.

Signed at Washington, DC, March 20, 2009.
Joseph T. Reilly,
Associate Administrator.

[FR Doc. E9-11622 Filed 5-18-09; 8:45 am]

BILLING CODE 3410-20-P